Title 3—

The President

Proclamation 10597 of June 16, 2023

Father's Day, 2023

By the President of the United States of America

A Proclamation

On Father's Day, we celebrate the dads, stepdads, grandfathers, and father figures in our lives, who shape who we are and set an example for the kind of people we aspire to be. They sacrifice so we can succeed, they mentor us so we can reach our potential, and they believe in us so we can learn to believe in ourselves. Across America, fathers work tirelessly every day to build a better future for their families, devoting their lives to ensuring that their children are safe, supported, and empowered to pursue their dreams. Today, we honor these men who have showered us with guidance, encouragement, and unconditional love.

Fathers are critical to raising the next generation and to teaching their daughters and sons about the values that matter most. They demonstrate responsible fatherhood and foster healthy perspectives on masculinity. Along the way, dads help their children navigate life's most difficult challenges, nurture their confidence and character, and give them the tools to develop a moral compass.

My dad, Joseph Robinette Biden Sr., taught me values early in life that continue to inspire me today. I can still hear his voice at the dinner table explaining that everyone deserves to be treated with dignity and respect. I remember him saying that the measure of a person is not how many times or how hard we get knocked down but how fast we get back up. And he taught me that, above all, family is the beginning, middle, and end—a lesson I have passed down to my children and grandchildren.

My father also used to say that a job is about a lot more than just a paycheck—it's about dignity, pride, a sense of self-worth, and your ability to look your child in the eye and tell them everything will be okay. That idea is at the heart of my commitment to building our economy from the bottom up and the middle out, with millions of good-paying jobs in manufacturing, construction, clean energy, and more. It has also guided our work to cut the cost of lifesaving prescription drugs and slash health insurance premiums, so no parent has to lie awake at night wondering how they can afford to pay their monthly bills and provide for their children. And as I said in my 2023 State of the Union Address, we will ensure that we protect Social Security and Medicare so that our fathers and grandfathers can age with dignity.

But we still have much more work to do, such as delivering affordable child care, paid family leave, and improved home care for seniors. I am confident that our Nation can come together to build a brighter future for all of our families.

As we honor the fathers and father figures in our lives, we also know this day falls hard on children without their fathers and fathers without their children. It is hard seeing that empty chair at the kitchen table; experiencing birthdays, anniversaries, and holidays without them; and remembering everyday things—the small things, the details that matter the most. We keep in our prayers all those who mark today with a hole in their heart, missing a father figure they love—whether by accident, illness, or another cruel twist of fate. And as we pray, we remember that no matter where they are, our dads' love for us and our love for them is a gift that never goes away. It will always be with us.

Today, as we express our gratitude for the men who have enriched our lives, let us remember that family is life's greatest blessing and responsibility; that we owe it to ourselves and our loved ones to make the most of our precious time together; and that our Nation would not be where it is today without our beloved fathers and father figures.

NOW, THEREFORE, I, JOSEPH R. BIDEN JR., President of the United States of America, in accordance with a joint resolution of the Congress approved April 24, 1972, as amended (36 U.S.C. 109), do hereby proclaim June 18, 2023, as Father's Day. I direct the appropriate officials of the Government to display the flag of the United States on all Government buildings on this day. Let us honor our fathers, living and deceased, and show them the love and gratitude they deserve.

IN WITNESS WHEREOF, I have hereunto set my hand this sixteenth day of June, in the year of our Lord two thousand twenty-three, and of the Independence of the United States of America the two hundred and forty-seventh.

[FR Doc. 2023-13407

Filed 6-21-23; 8:45 am]

Billing code 3395-F3-P